FEDERAL COMMUNICATIONS COMMISSION

Notice of Public Information Collection(s) Being Reviewed by the Federal Communications Commission for Extension Under Delegated Authority, Comments Requested

October 7, 2002.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by December 16, 2002. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the internet to jboley@fcc.gov.

FOR FURTHER INFORMATION CONTACT: For additional information or copies of the information collections contact Judy Boley Herman at 202-418-0214 or via the internet at jboley@fcc.gov.

SUPPLEMENTARY INFORMATION: OMB Control No.: 3060-0900.

Title: Compatibility of Wireless Services with Enhanced 911; Second Report and Order in CC Docket No. 94-102.

Form No.: N/A.

Type of Review: Extension of a currently approved collection.

Respondents: Individuals or households, business or other for-profit, state, local, or tribal government, not-for-profit institutions.

Number of Respondents: 100.

Estimated Time Per Response: 20 hours.

Frequency of Response: One-time and on occasion reporting requirements.

Total Annual Burden: 2,190 hours.

Annual Reporting and Recordkeeping Cost Burden: N/A.

Needs and Uses: The information submitted by manufacturers or carriers wishing to incorporate new or modified E911 call processing modes will be used to keep the Commission informed of technological developments and thus to ensure that the Commission's regulations are kept current and reflect the preferences of the industry in complying with E911 regulations. The information to be submitted with applications for equipment authorizations for analog cellular telephones is necessary to ensure industry compliance with E911 call completion regulations. The voluntary education program will enable consumers to use wireless analog sets to make E911 calls in an informative manner, ensuring a fast, reliable response.

OMB Control No.: 3060-0147.

Title: Section 64.804, Extension of Unsecured Credit for Interstate and Foreign Communications Services to Candidates for Federal Office.

Form No.: N/A.

Type of Review: Extension of a currently approved collection.

Respondents: Business or other for-profit.

Number of Respondents: 13.

Estimated Time Per Response: 8 hours.

Frequency of Response: Annual and on occasion reporting requirements, recordkeeping requirement.

Total Annual Burden: 104 hours.

Annual Reporting and Recordkeeping Cost Burden: N/A.

Needs and Uses: Pursuant to section 64.804 of FCC rules, a carrier must obtain a signed, written application for service which shall identify the applicant and the candidate and state whether or not the candidate assumes responsibility for charges, and which shall state that the applicant or applicants are liable for payment and that the applicant understands that service will be discontinued if payment is not rendered. Section 64.804 also requires records of each account, involving the extension by a carrier of unsecured credit to a candidate or person on behalf of such candidate for common carrier communications services shall be maintained by the carrier as to show separately, interstate and foreign communication services all charges, credits, adjustments, and security, if any, and balance receivable. Section 64.804 requires communications common carriers with operating revenues exceeding $1 million who extend unsecured credit to a political candidate or person on behalf of such candidate for Federal office to report, annually, data including due and outstanding balances.

OMB Control No.: 3060-0876.

Title: USAC Board of Directors Nomination Process (47 CFR 54.703) and Review of Adminstrator's Decision (47 CFR 54.719-54.725).

Form No.: N/A.

Type of Review: Extension of a currently approved collection.

Respondents: Business or other for-profit, not-for-profit institutions.

Number of Respondents: 22.

Estimated Time Per Response: 20-32 hours.

Frequency of Response: On occasion reporting requirement and third party disclosure requirement.

Total Annual Burden: 560 hours.

Annual Reporting and Recordkeeping Cost Burden: N/A.

Needs and Uses: Pursuant to section 54.703 industry and non-industry groups may submit to the Commission for approval nominations for individuals to be appointed to the USAC Board of Directors. Sections 54.719-54.725 contain the procedures for Commission review of USAC decisions, including the general filing requirements pursuant to which parties must file requests for review. The information is used by the Commission to select USAC's Board of Directors and to ensure that requests for review are filed properly with the Commission.

Federal Communications Commission.
Marlene H. Dortch,
Secretary.

[FR Doc. 02-26433 Filed 10-17-02; 8:45 am]

BILLING CODE 6712-01-P